DEPARTMENT OF COMMERCE

National Oceanic and Atmospheric Administration

[RTID 0648-XB883]

Fisheries of the South Atlantic; South Atlantic Fishery Management Council; Public Meetings

AGENCY: National Marine Fisheries Service (NMFS), National Oceanic and Atmospheric Administration (NOAA), Commerce.

ACTION: Notice of a public meeting.

SUMMARY: The South Atlantic Fishery Management Council (Council) will host a Seminar Series presentation on the Deepwater Marine Protected Areas in the South Atlantic Region via webinar.

DATES: The webinar presentation will be held on Tuesday, April 12, 2022, from 1 p.m. until 2:30 p.m.

ADDRESSES:

Meeting address: The presentation will be provided via webinar. The webinar is open to members of the public. Information, including a link to webinar registration will be posted on the Council's website at: https://safmc.net/safmc-meetings/other-meetings/ as it becomes available.

Council address: South Atlantic Fishery Management Council, 4055 Faber Place Drive, Suite 201, N. Charleston, SC 29405.

FOR FURTHER INFORMATION CONTACT: Kim Iverson, Public Information Officer, SAFMC; phone: (843) 302-8439 or toll free: (866) SAFMC-10; fax: (843) 769-4520; email: kim.iverson@safmc.net.

SUPPLEMENTARY INFORMATION: The Council will host a presentation from NOAA Fisheries on research conducted in the Deepwater Marine Protected Areas in the South Atlantic Region. The presentation will describe the impact of the protected areas based on data collected from remotely operated vehicles over the past 17 years by NOAA Fisheries Southeast Fisheries Science Center. During their research scientists were able to document fish abundances before and after implementation of fishing restrictions, comparing protected and unprotected areas. They were also able to examine the effect of lionfish on reef fish community structure along the south Atlantic shelf break and compare natural and artificial habitats to illuminate deep-water grouper hotspots. A question-and-answer session will follow the presentation. Members of the public will have the opportunity to participate in the discussion. The presentation is for informational purposes only and no management actions will be taken.

Special Accommodations

The meeting is physically accessible to people with disabilities. Requests for auxiliary aids should be directed to the Council office (see ADDRESSES) (5) days prior to the meeting.

Note: The times and sequence specified in this agenda are subject to change.

Authority: 16 U.S.C. 1801 et seq.

Dated: March 21, 2022.
Tracey L. Thompson,
Acting Deputy Director, Office of Sustainable Fisheries, National Marine Fisheries Service.

[FR Doc. 2022-06258 Filed 3-23-22; 8:45 am]

BILLING CODE 3510-22-P